COMMODITY FUTURES TRADING COMMISSION

Notice of Intent To Undertake a Determination Whether the Mid-C Financial Peak Contract; Mid-C Financial Peak Daily Contract; Mid-C Financial Off-Peak Contract; and Mid-C Financial Off-Peak Daily Contract, Offered for Trading on the IntercontinentalExchange, Inc., Perform a Significant Price Discovery Function

AGENCY: Commodity Futures Trading Commission.

ACTION: Reopening comment period.

SUMMARY: The Commodity Futures Trading Commission (“Commission”) is reopening the comment period for interested parties to comment on the Commission's Notice of Intent to consider whether the Mid-C Financial Peak Contract, Mid-C Financial Peak Daily Contract, Mid-C Financial Off-Peak Contract, and Mid-C Financial Off-Peak Daily Contract offered for trading on the IntercontinentalExchange, Inc. (“ICE”) perform a significant price discovery function.

DATES: Written comments must be received by November 27, 2009.

ADDRESSES: Interested persons should submit their views and comments to David Stawick, Secretary, Commodity Futures Trading Commission, Three Lafayette Centre, 1155 21st Street, NW., Washington, DC 20581. In addition, comments may be sent by facsimile transmission to (202) 418-5521, or by electronic mail to secretary@cftc.gov. Include the subject contracts by name in the subject or reference line of the comment.

FOR FURTHER INFORMATION CONTACT: Martin Murray, Assistant Associate Director for Product Review, Division of Market Oversight, Commodity Futures Trading Commission, Three Lafayette Centre, 1155 21st St., NW., Washington, DC 20581. Telephone: (202) 418-5276. E-mail: mmurray@cftc.gov; Susan Nathan, Senior Special Counsel, Division of Market Oversight, same address. Telephone: (202) 418-5122. E-mail: snathan@cftc.gov.

SUPPLEMENTARY INFORMATION: On October 6, 2009, the Commission published for public comment a notice of intent to undertake a determination, pursuant to section 2(h)(7) of the Commodity Exchange Act and Commission rule 36.3(c), whether the above-referenced contracts perform a significant price discovery function.¹ The Commission established a 15-day period for submitting public comment; the comment period closed on October 21, 2009. The notice of intent has generated substantial interest, and a number of commenters and potential commenters have informally requested that the Commission provide them additional time in which to submit their views. In response to these requests, and in order to ensure that an adequate opportunity is provided for submission of meaningful comments, the Commission has determined to reopen the comment period for an additional 15 days.

¹ 74 FR 51261.

Issued in Washington, DC, on November 5, 2009 by the Commission.
David A. Stawick,
Secretary of the Commission.

[FR Doc. E9-27160 Filed 11-10-09; 8:45 am]

BILLING CODE 6351-01-P